DEPARTMENT OF JUSTICE

Notice of Lodging of Proposed Consent Decree Under the Clean Air Act

On June 26, 2017, a proposed Consent Decree was lodged with the United States District Court for the District of Colorado in the lawsuit entitled United States and State of Colorado v. Rocky Mountain Company, LLC, Civil Action No. 1:17-cv-01554.

The United States filed this lawsuit against Rocky Mountain Bottle Company, LLC (“RMBC”) alleging violations of the Non-attainment New Source Review provisions of the Clean Air Act, 42 U.S.C. 7501-7515, among other provisions. The Complaint contends that RMBC modified the furnaces at its facility in Jefferson County, Colorado, without installing required pollution controls. The proposed Consent Decree requires RMBC to pay a civil penalty of $475,000 and undertake significant injunctive relief.

The publication of this notice opens a period for public comment on the Consent Decree. Comments should be addressed to the Assistant Attorney General, Environment and Natural Resources Division, and should refer to United States and State of Colorado v. Rocky Mountain Company, D.J. Ref. No. 90-5-2-1-10146. All comments must be submitted no later than thirty (30) days after the publication date of this notice. Comments may be submitted either by email or by mail in the following manner:

To submit comments: | Send them to:
By email | pubcomment-ees.enrd@usdoj.gov.
By mail | Assistant Attorney General, U.S. DOJ—ENRD, P.O. Box 7611, Washington, DC 20044-7611.

During the public comment period, the Stipulation of Settlement and Order may be examined and downloaded at this Justice Department Web site: https://www.justice.gov/enrd/Consent_Decrees. We will provide a paper copy upon written request and payment of reproduction costs. Please mail your request and payment to: Consent Decree Library, U.S. DOJ—ENRD, P.O. Box 7611, Washington, DC 20044-7611.

Please enclose a check or money order for $17.75 (25 cents per page reproduction cost) payable to the United States Treasury.

Robert Brook,
Assistant Chief, Environmental Enforcement Section, Environment and Natural Resources Division.

[FR Doc. 2017-13855 Filed 6-30-17; 8:45 am]

BILLING CODE 4410-15-P